ENVIRONMENTAL PROTECTION AGENCY

[EPA-HQ-OPP-2006-0936; FRL-8145-1]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before September 21, 2007.

ADDRESSES: Submit your comments, identified by docket identification (ID) number and the pesticide petition number (PP) of interest, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket’s normal hours of operation (8:30 a.m. to 4 p.m., Monday through Friday, excluding legal holidays). Special arrangements should be made for deliveries of boxed information. The Docket Facility telephone number is (703) 305-5805.

Instructions: Direct your comments to the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP Number | Docket ID Number
PP 7E7224 | EPA-HQ-OPP-2007-0672
PP 5F7006 | EPA-HQ-OPP-2007-0876

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

New Tolerances

1. PP 7E7224. (EPA-HQ-OPP-2007-0672). Bayer CropScience, 2 T.W., Alexander Drive, P.O. Box 12014, Research Triangle Park, NC 27709, proposes to establish a tolerance for residues of the mefenpyr-diethyl, 1-(2,4-dichlorophenyl)-4,5-dihydro-5-methyl-1H-pyrazole-3,5-dicarboxylic acid, diethyl ester and its 2,4-dichlorophenyl-pyrazoline metabolites in or on food commodity soybean, seed at 0.02 parts per million (ppm); soybean, forage at 0.1 ppm; soybean, hay at 0.1 ppm; and canola, seed at 0.02 ppm. A practical analytical method utilizing gas chromatography and a mass selective detector (GC/MSD) is available for detecting and measuring levels of mefenpyr-diethyl and its 2,4-dichlorophenylpyrazoline containing metabolites in plant material. The limit of quantitation (LOQ) was validated at 0.01 milligram/kilogram (mg/kg/ppm) in wheat and barley grain, 0.05 mg/kg/ppm in wheat and barley straw and wheat hay, and 0.1 ppm in wheat forage. An analytical method for the determination of mefenpyr-diethyl and its metabolites in beef liver is also available using GC/MSD. The limit of quantification for both mefenpyr-diethyl and its metabolites is 0.05 ppm. Contact: Tracy H. Ward, telephone number: (703) 308-9361; e-mail address: ward.tracyH@epa.gov.

2. PP 5F7006. (EPA-HQ-OPP-2007-0876). Dow AgroSciences LLC, 9330 Zionsville Road, Indianapolis, IN 46268, proposes to establish a tolerance for residues of the insecticide XDE-175 (expressed as combination of XDE-175-J): 1-H-as-Indaceno[3,2-d]oxacyclododecin-7,15-dione, 2-[(6-deoxy-3-O-ethyl-2,4-di-O-methyl-a-L-mannopyranosyl)oxy]-13-[[(2R,5S,6R)-5-(dimethylamino) tetrahydro-6-methyl-2H-pyran-2-yl]oxy]-9-ethyl-2,3,3a,4,5,5a,5b,6,9,10,11,12,13,14,16a,16b-hexadecahydro 14-methyl-, (2R,3aR,5aR,5bS,9S,13S,14R,16aS,16bR) and XDE-175-L: 1H-as-Indaceno[3,2-d]oxacyclododecin-7,15-dione, 2-[(6-deoxy-3-O-ethyl-2,4-di-O-methyl-a-L-mannopyranosyl)oxy]-13-[[(2R,5S,6R)-5-(dimethylamino) tetrahydro-6-methyl-2H-pyran-2-yl]oxy]-9-ethyl-2,3,3a,5a,5b,6,9,10,11,12,13,14,16a,16b-tetradecahydro-4,14-dimethyl-, (2S,3aR,5aS,5bS,9S,13S,14R,16aS,16bS] in or on food commodities acerola at 1.5 parts per million (ppm); almond, hulls at 2 ppm; amaranth, grain, grain at 1 ppm; apple, wet pomace at 0.5 ppm; artichoke, globe at 0.3 ppm; asparagus at 0.2 ppm; atemoya at 0.3 ppm; avocado at 0.3 ppm; banana at 0.25 ppm; barley, hay and straw at 5 ppm; beet, sugar, molasses at 0.75 ppm; biriba at 0.3 ppm; Brassica, head and stem, subgroup 5A at 2 ppm; bushberry, subgroup 13B at 0.25 ppm; caneberry, subgroup 13A at 0.7 ppm; canistel at 0.3 ppm; cattle, fat at 2 ppm; cattle, meat byproducts at 1 ppm; cattle, meat at 0.1 ppm; cherimoya at 0.3 ppm; citrus, dried pulp at 0.5 ppm; citrus, oil at 3 ppm; coriander, leaves at 8 ppm; corn, field, forage at 1.5 ppm; corn, field, hay at 1 ppm; corn, field, stover at 5 ppm; corn, field, straw at 1 ppm; corn, sweet, forage at 1.5 ppm; corn, sweet, kernel plus cob with husks removed at 0.02 ppm; corn, sweet, stover at 5 ppm; cotton, gin byproducts at 1.5 ppm; cotton, undelinted seed at 0.02 ppm; cranberry at 0.01 ppm; custard apple at 0.3 ppm; feijoa at 0.05 ppm; fig at 0.1 ppm; fruit, citrus, group 10 at 0.3 ppm; fruit, pome, group 11 at 0.2 ppm; fruit, stone, group 12 at 0.2 ppm; goat, fat at 2 ppm; goat, meat byproducts at 1 ppm; goat, meat at 0.1 ppm; grain, aspirated fractions at 5 ppm; grain, cereal, group 15 at 0.02 ppm; grape at 0.5 ppm; guava at 0.3 ppm; herb, dried, subgroup 19B at 22 ppm; herbs, fresh, subgroup 19A at 3 ppm; hog, fat at 1 ppm; hog, meat at 0.1 ppm; hog, meat byproducts at 0.5 ppm; hops at 22 ppm; horse, fat at 2 ppm; horse, meat at 0.1 ppm; horse, meat byproducts at 1 ppm; ilama at 0.3 ppm; jaboticaba at 0.3 ppm; juneberry at 0.25 ppm; vegetables, leafy (except Brassica vegetables), group 4 at 8 ppm; vegetables, legume, dried shell pea and bean (except soybean), crop subgroup 6C at 0.02 ppm; vegetables, legume, edible podded, crop subgroup 6A at 0.3 ppm; vegetables, legume, succulent shelled pea and bean, crop subgroup 6B at 0.02 ppm; lingonberry at 0.25 ppm; longan at 0.3 ppm; lychee at 0.3 ppm; mango at 0.3 ppm; milk at 0.5 ppm; milk, fat at 1 ppm; millet, forage at 1.5 ppm; millet, hay and straw at 5 ppm; nut, tree, group 14 at 0.02 ppm; oat, forage at 1.5 ppm; oat, hay and straw at 5 ppm; okra at 0.4 ppm; onion, dry, bulb at 0.1 ppm; onion, green at 2 ppm; papaya at 0.3 ppm; passionfruit at 0.3 ppm; peanut at 0.02 ppm; peanut, hay at 11 ppm; peppermint, tops at 3.5 ppm; pistachio at 0.02 ppm; plantain at 0.25 ppm; pulasan at 0.3 ppm; rambutan at 0.3 ppm; rye, forage at 1.5 ppm; rye, straw at 5 ppm; salal at 0.25 ppm; sapodilla at 0.3 ppm; sapote, black at 0.3 ppm; sapote, mamey at 0.3 ppm; sapote, white at 0.3 ppm; sheep, fat at 2 ppm; sheep, meat at 0.1 ppm; sheep, meat byproducts at 1 ppm; sorghum, forage at 1.5 ppm; sorghum, hay at 5 ppm; sorghum, stover at 5 ppm; soursop at 0.3 ppm; soybean at 0.02 ppm; Spanish lime at 0.3 ppm; spearmint, tops at 3.5 ppm; star apple at 0.3 ppm; starfruit at 0.3 ppm; strawberry at 1 ppm; sugar apple at 0.3 ppm; teosinte, forage at 1.5 ppm; ti, leaves at 10 ppm; triticale, forage at 1.5 ppm; triticale, hay at 5 ppm; vegetable, Brassica, leafy, group 5 at 10 ppm; vegetable, bulb, (except green onion, group 3 at 0.1 ppm; vegetable, cucurbit (cucumber, melon, squashes)), group 9 at 0.3 ppm; vegetable, foliage of legume, group 7 at 8 ppm; vegetable, fruiting, group 8 at 0.4 ppm; vegetable, leaves of root and tuber, group 2 at 10 ppm; vegetable, root and tuber, group 1 at 0.1 ppm; watercress at 8 ppm; wax jambu at 0.3 ppm; wheat, forage at 1.5 ppm; wheat, hay and straw at 5 ppm.

There is a practical method liquid chromatography with positive ion electrospray ionization (ESI) tandem mass spectrometry (LC/MS/MS) for detection of residues. The limit of detection (LOD) and LOQ are 0.003 g/g and 0.01 g/g, respectively for each parent and metabolite are suitable for detecting and measuring levels of XDE-175 in or on food that allows monitoring of food with residues at or above the level set for these tolerances. The method had undergone successful independent laboratory validation. Contact: Bonaventure Akinlosotu, telephone number: (703) 605-0653; e-mail address: akinlosotu.bonaventure@epa.gov.

List of Subjects

Environmental protection, Agricultural commodities, Feed additives, Food additives, Pesticides and pests, Reporting and recordkeeping requirements.

Dated: August 15, 2007.
Lois Rossi,
Director, Registration Division, Office of Pesticide Programs.

[FR Doc. E7-16559 Filed 8-21-07; 8:45 am]

BILLING CODE 6560-50-S